DEPARTMENT OF COMMERCE

International Trade Administration

Application of License To Enter Watches and Watch Movements Into the Customs Territory of the United States

ACTION: Proposed collection; comment request.

SUMMARY: The Department of Commerce, as part of its continuing effort to reduce paperwork and respondent burdens, invites the general public and other Federal agencies to take this opportunity to comment on continuing information collections, as required by the Paperwork Reduction Act of 1995, Public Law 104-13 (44 U.S.C. 3506(c) (2) (A)).

DATES: Written comments must be submitted on or before August 6, 2002.

ADDRESSES: Direct all written comments to Madeleine Clayton, Departmental Paperwork Clearance Officer, Department of Commerce, Room 6608, 14th & Constitution Avenue, NW, Washington, DC 20230 or via the Internet at MClayton@doc.gov. or by phone at (202) 482-3129.

FOR FURTHER INFORMATION CONTACT: Request for additional information or copies of the information collection instrument and instructions should be directed to: Faye Robinson, Statutory Import Programs Staff, FCB Suite 4100W, U.S. Department of Commerce, Washington, DC 20230; Phone number: (202) 482-3526, and fax number: (202) 482-0949.

SUPPLEMENTARY INFORMATION:

I. Abstract

Public Law 97-446, as amended by Public Law 103-465, requires the Departments of Commerce and the Interior to administer the distribution of duty-exemptions and duty-refunds to watch producers in the U.S. insular possessions and the Northern Mariana Islands. Public Law 106-36, enacted June 25, 1999, provides for the distribution of duty-refund benefits for any jewelry within heading 7113 of the Harmonized Tariff Schedule of the United States which is the product of the U.S. Territories and the Northern Mariana Islands in accordance with the new provisions of the note in chapter 71 and additional U.S. note 5 to chapter 91. The primary consideration in collecting information is the enforcement of the laws and the information gathered is limited to that necessary to prevent abuse of the program and to permit a fair and equitable distribution of its benefits. Form ITA-334P is the principal program form used for recording the operational data on the basis of which program entitlements are distributed among the producers (and the provision of which to the Departments constitutes their application for these entitlements). The form is completed by watch and watch movement manufacturers and has been modified with special instructions for completion by the new jewelry manufacturers. Because the duty-refund benefit has been changed from an annual benefit to a biannual benefit, Form ITA-334P is also used, with modified instructions, to gather the information needed to calculate the interim duty-refund certificate for the jewelry and watch manufacturers.

II. Method of Collection

The Department of Commerce sends Form ITA-334P to each watch producer biannually. A company official completes the form and returns it to the Department of Commerce.

III. Data

OMB Number: 0625-0040.

Form Number: ITA-334P.

Type of Review: Revision—regular submission.

Affected Public: Business or other for-profit.

Estimated Number of Respondents: 7.

Estimated Time Per Response: 1 hour.

Estimated Total Annual Burden Hours: 14 hours.

Estimated Total Annual Costs: The estimated annual cost for this collection is $40,350 ($350 for respondents and $40,000 for federal government (included are most administration costs of program).

IV. Request for Comments

Comments are invited on (a) whether the proposed collection of information is necessary for the proper performance of the functions of the agency, including whether the information shall have practical utility; (b) the accuracy of the agency's estimate of the burden (including hours and costs) of the proposed collection of information; (c) ways to enhance the quality, utility, and clarity of the information to be collected; and (d) ways to minimize the burden of the collection of information on respondents, including through the use of automated collection techniques or forms of information technology.

Comments submitted in response to this notice will be summarized and/or included in the request for OMB approval of this information collection; they also will become a matter of public record.

Dated: June 3, 2002.
Madeleine Clayton,
Departmental Paperwork Clearance Officer, Office of Chief Information Officer.

[FR Doc. 02-14349 Filed 6-6-02; 8:45 am]

BILLING CODE 3510-DS-P